ENVIRONMENTAL PROTECTION AGENCY

[FRL-7474-9]

Notice of Availability for FY 03 Enforcement and Compliance Assurance Multi-Media Assistance Agreements

AGENCY: Environmental Protection Agency (EPA).

ACTION: Notice.

SUMMARY: The Office of Compliance (OC), within EPA's Office of Enforcement and Compliance Assurance (OECA), is soliciting proposals for a Environmental Compliance Grant program assistance for States and tribes in two focus areas: environmental enforcement training and supporting improved linkages between EPA and State/tribal systems. Grants will be in the range of $50,000-$200,000. The total number and amount of the awards will depend on the amount of funds made available.

DATES: Pre-proposals should not exceed 5 pages. (12 point font, on 8½ by 11 inch paper.) Pre-proposals must be received electronically or hard copy by May 5, 2003. Funding decisions will be made by late June based on the pre-proposals. Applicants selected to receive funds will be required to submit final proposals to the appropriate EPA Region by September 15, 2003.

ADDRESSES: Copies of Pre-proposals should be sent to David Piantanida (2222A), U.S. EPA—Ariel Rios South Rm 6149D, 1200 Pennsylvania Avenue, NW., Washington, DC 20460, e-mail: piantanida.david@epa.gov, Tel: (202) 564-8318, Fax: (202) 564-0034; and simultaneously to the appropriate Regional Enforcement Coordinator. This document will be posted on the EPA's Office of Enforcement and Compliance Assurance Web site at http://www.epa.gov/compliance/planning/state/grants.html.

FOR FURTHER INFORMATION CONTACT: David Piantanida at (202) 564-8318.

SUPPLEMENTARY INFORMATION:

Eligibility and Authority

The funds available are from OECA's Multi-Media State and Tribal Assistance Grants (STAG) appropriation. Eligible applicants include States, tribes, inter-tribal consortia, territories, local governments, and multi-jurisdictional organizations. Where a lead State environmental agency exists, applicants should work with and coordinate through the lead State environmental agency.

EPA expects to award these grants under the following grant authorities: Clean Water Act, section 104; Federal Insecticide, Fungicide, and Rodenticide Act, section 20; Clean Air Act, section 103; Solid Waste Disposal Act, section 8001; Safe Drinking Water Act, section 1442 (c); Toxic Substances Control Act, section 10; Marine Protection, Research and Sanctuaries Act, section 203; Comprehensive Environmental Response, Compensation and Liability Act, section 311; National Environmental Policy Act, section 102(2)(F) for international awards; and Indian Environmental General Assistance Program Act. The applicable grant regulations for this grant program are in 40 CFR part 31 for State and local governments and Indian tribes.

Authority to enter into assistance agreements for the purposes described in this notice are delegated to OECA in EPA Delegation 1-47, Assistance Agreements for Economic, Social Science, Statistical, and Other Research, Development, Studies, Surveys, Demonstrations, Investigations, Public Education Programs, Training, and Fellowships.

Funding priorities must be allowable under 66.709 (Capacity Building Grants and Cooperative Agreements for States and Tribes) of the Catalog of Federal Domestic Assistance (CFDA).

Desired Projects

OECA will only consider funding projects for the two focus areas described below, and for projects which can be completed in 3 years or less. Projects will be evaluated for potential funding based on the extent to which they address the information below. Please note, applicants should not address both focus areas in their pre-proposals. Each focus area is separate and proposals from each category will be evaluated independently.

Table of Contents

1. Environmental Enforcement Training

2. Support Improved Linkages Between EPA and State/Tribal Systems:

(A) Permit Compliance System (PCS) Modernization

(B) Air Facility System (AFS)—Universal Interface (UI)

1. Environmental Enforcement Training

OECA's Office of Compliance is seeking ways to improve and build capacity among State and tribal personnel in the area of environmental enforcement training. We are looking for States/tribes or organizations to host training workshops or sponsor State and tribal personnel attendance at existing training programs (e.g., inspector, case developer).

Since EPA has discretionary authority to ask States and tribes to conduct inspections on behalf of the Agency under each Federal environmental statute, strengthening enforcement skills through training is important. To ensure that State, local and tribal environmental personnel conduct and perform specific responsibilities appropriately, OECA will consider funding pre-proposals that fall into the following training areas:

—Inspector training and inspector training involving cross-training with other specialities—including cross-media, and criminal investigation,

—Single and multi-media enforcement for case developers,

—Basic and multi-media inspector/compliance training; and,

—Environmental benefits of enforcement cases.

Pre-proposal Criteria: All training pre-proposals will be evaluated and ranked based on the criteria outlined below. The following seven criteria and associated points will be used by EPA to evaluate the pre-proposals.

(a) (10 points) Clearly identify intended audience by identifying other States and tribes within an EPA region to host or participate in a workshop that includes training from the areas listed above.

(b) (10 points) Explicitly state and describe the training and verify that the particular training can accommodate the number of participants specified in the pre-proposal.

(c) (25 points) Description of course outline and content shows consistency with EPA Federal guidelines and is supportive of an authorized program (e.g., training provides information on Federal inspection law and policy). Course content may also provide information on inspection issues that arise under State and tribal laws.

(d) (10 points) Pre-proposals that include development of new training must show evidence that existing course materials will be used (e.g., EPA's NETI-West Basic Inspector Training Course materials). Funding should be used to revise/adapt existing training as much as possible and not used to duplicate training that is readily available from other sources.

(e) (10 points) All training funding pre-proposals must include payment of full travel and lodging costs for State and tribal training participants.

(f) (15 points) Address sharing results. Describe how you will share training materials and products (e.g., archive training materials on CD-ROM; make available on Web site; distribute training materials at conferences).

(g) (20 points) Identify output and outcome measures (i.e., identify number/type of personnel to be trained as well as describe how this training will improve skillfulness or job performance). Describe how success will be measured (e.g., use of questionnaires and surveys before and after training).

Applicants are encouraged to consult and utilize EPA's Guide to Compliance Assistance Outcome Measurement. This document is available at http://es.epa.gov/oeca/perfmeas/full-oec.pdf. If you do not have access to the Internet, you may request a hard copy by contacting David Piantanida on (202) 564-8318.

2. Support Improved Linkages Between EPA and State/Tribal Systems

It is critical that State or tribal data systems be able to report data to EPA that is consistent with EPA/State data standards and in line with new requirements of media data systems (e.g. Permit Compliance System) being modernized as well as consistent with current requirements of legacy media systems. OECA is making funds available to support the provision of quality data to EPA from States and/or tribes through improved system interfaces, data linkages, and data clean-up. States/tribes need to make sure their systems are compatible with EPA's systems and that they can accurately transmit data to EPA. The funds will allow the States/tribes to go out and procure the expertise they need in order to do that.

This notice also solicits projects that assist States/tribes with reporting of consistent streamlined environmental compliance data to EPA including the following:

(A) Permit Compliance System (PCS) Modernization: Grant funding would support State efforts to procure technical assistance and technical expertise for State system modifications to ensure the continued flow of nationally required National Pollutant Discharge Elimination System (NPDES) data from State systems to the PCS. This effort would ensure that States will be able to continue to meet delegation and regulatory reporting requirements to EPA. Areas of technical assistance may include: (1) Support for modification of existing State/tribal system interfaces or development of new State/tribal system interfaces to the new modernized system format (IDEF/XML format, revised flat file or batch card format), (2) support to develop capability of State/tribal systems to incorporate new data requirements for new NPDES programs (i.e., biosolids, CAFO, SSO/CSO, storm water), and (3) data clean-up/data migration efforts.

(B) Air Facility System (AFS) Universal Interface (UI): Grant funding would support State/tribal efforts to procure technical assistance to incorporate the AFS UI software with their current systems resulting in improved system interfaces, data linkages and data clean-up; and to support State/tribal efforts to build system capability to implement the air compliance monitoring strategy (CMS) data reporting requirements. To support the CMA, grant funding would assist States/tribes to streamline the capture and transmission of nationally required air compliance and enforcement data with special emphasis on reporting of the following data: (a) Stack tests and results; (b) compliance certification due, received, and reviewed dates; and (c) information on compliance certification deviations and certification review results.

Pre-proposal Criteria: All support pre-proposals will be evaluated and ranked based on the criteria outlined below. The following three criteria and associated points will be used by EPA to evaluate the pre-proposals:

(a) (20 points) The pre-proposal must describe briefly the existing State/tribal data system;

(b) (30 points) The pre-proposal must describe briefly the technical aspects of methods for currently exchanging nationally required NPDES and AFS data with EPA; and,

(c) (50 points) Pre-proposal must clearly identify and describe the States/tribes development efforts to support the modernized system formats (i.e., revised IDEF/XML format, revised flat file or batch card format, or AFS UI interface software), to incorporate new data requirements for NPDES programs (i.e., biosolids, CAFO, SSO/CSO, storm water) or the CMS data reporting requirements, and support for data clean-up, linkage, and migration efforts.

Past Performance

In addition to the above criteria, EPA will also be looking at past performance of a grantee under this grant program (e.g., timely and complete quarterly/semi-annual reports, results/outcomes are apparent during the project, final reports are timely and complete). Where there are two pre-proposals that have been ranked equally, the one with a better track record will win based on their past performance. If a grantee should have no record under this program, they will not be unfairly penalized.

Funding

The grants/cooperative agreements should be in the range of $50,000 to $200,000, although proposals below or above that range will be considered. The total number and amount of the awards will depend on the amount of funds made available. The U.S. EPA reserves the right to make no awards under this solicitation.

State and tribal matching funds are not required. However, preference will be given to pre-proposals which also make a commitment of State or tribal resources towards the total project cost. This can be State or tribal personnel salary dedicated to the project, cash contribution to the project budget or other “in kind” contributions. The value of donated or “in-kind” services in the performance of a project should be considered in accordance with OMB Circular A-87, “Cost Principles for State, Local, and Indian Tribal Governments.” Lastly, Federal funds cannot generally be used to provide a match or cost-share for other Federal projects.

EPA can not predict that additional funds for these focus areas will be available in future years. Therefore, States and tribes should assume that these funds will be available on a one-time only basis and should not propose projects requiring annual funding.

Process and Schedule

Electronic pre-proposals must be received by EPA by May 2, 2003, and should follow the format below. Pre-proposals should be submitted simultaneously to the appropriate Regional Enforcement Coordinator, and to David Piantanida, OECA, (see Contact Information below.) Funding decisions will be made by late June 2003 based on the pre-proposals. Applicants selected to receive funds will be required to submit final proposals electronically by August 29, 2003. Regions will provide application materials to selected applicants.

FOIA, CBI, and Enforcement Screening: Applicants should be aware that pre-proposals submitted under this or any other EPA grant program are subject to the Freedom of Information Act (FOIA). This means that anyone can request and receive copies of all the information submitted in your grant proposal. If your application contains any Confidential Business Information (CBI), be sure to highlight it so the confidentiality can be protected in the event of a FOIA request.

Proposed Milestones for 2003 OECA Multi Media Assistance Agreements

May 5—Electronic Pre-Proposals due simultaneously to the appropriate EPA Regional Enforcement Coordinator, and David Piantanida, OECA. (See Contact Information below.)

Late June—EPA notifies all applicants via e-mail of funding decisions.

July 31—Selected recipients receive final application materials from EPA Regional office and name and contact information of Regional Project Officer and Regional Grants Contact.

September 15—Final Proposals/Work Plans due to Regional Project Officers and Regional Grants Contact, and David Piantanida, OECA.

September—Grants awarded.

Format for Pre-Proposals

Pre-proposals should not exceed 5 pages and follow the format below:

I. Project Information

State/Tribe and Department:

Title of Project:

Focus Area: (From Notice of Availability)

Total Funds Requested from EPA:

Total Project Cost: (Including state/tribe cash and in-kind contributions)

Contact Person: (Name, title, address, phone, fax, & email)

Preferred Assistance Agreement: (Grants or cooperative agreements)

II. Summary

—Summary of the problem being addressed;

—Summary of project goal(s);

—Summary of project components;

—Summary of how the project components will address the problem & attain the goals.

III. Summary Work Plan

—Proposed activities—List and describe activities and how they relate to the evaluation elements listed under Desired Projects above;

—Measures—How will the success of the project be measured? (E.g., training—return on investment and number trained.) Include both output and outcome measures.

—Sharing results—How will the results of the project be shared across States/tribes? (E.g., training—how will the archived materials be disseminated to other States/tribes?)

IV. Project Milestones

—List project milestones with estimated dates, including estimated duration of project.

V. Project Costs

—Include an itemized budget for all project costs—distinguish the funds requested from any State/tribe contributions (in kind or other).

Reports

Awardees will be required to submit semi-annual and final progress reports to their project officer and to David Piantanida at the address below. A template reporting form will be provided to all funded grantees. Recipients will also be required to complete annual Financial Status Reports. All reports must be prepared in either Word or Wordperfect formats and delivered electronically to the appropriate project officer and to David Piantanida.

Contact Information

For more information regarding this process, please contact David Piantanida at the address below: David Piantanida (2222A), US EPA—Ariel Rios South Rm 6149D, 1200 Pennsylvania Avenue, NW., Washington, DC 20460. piantanida.david@epa.gov. Tel: (202) 564-8318. Fax: (202) 564-0034.

EPA Regional Contacts

EPA Region I

Enforcement Coordinator: Ken Moraff—moraff.ken@epa.gov.

Enforcement Division Director: Sam Silverman—silverman.sam@epa.gov.

EPA Region II

Enforcement Coordinator: Barbara McGarry—mcgarry.barbara@epa.gov.

Enforcement Division Director: Richard Caspe—caspe.richard@epa.gov.

EPA Region III

Enforcement Coordinator: Samantha Fairchild—fairchild.samantha@epa.gov.

EPA Region IV

Enforcement Coordinators: Sherri Fields—fields.sherri@epa.gov. Bruce Miller—miller.bruce@epa.gov.

Enforcement Division Director: William Anderson—anderson.william@epa.gov.

EPA Region V

Enforcement Coordinator: Tinka Hyde—hyde.tinka@epa.gov.

EPA Region VI

Enforcement Coordinator: Walter Biggins—biggins.walter@epa.gov.

Enforcement Division Director: Samuel Coleman—coleman.samuel@epa.gov.

EPA Region VII

Enforcement Coordinator: Cecilia Tapia—tapia.cecilia@epa.gov.

EPA Region VIII

Enforcement Coordinator: Eddie Sierra—sierra.eddie@epa.gov.

Enforcement Division Director: Carol Rushin—rushin.carol@epa.gov.

EPA Region IX

Enforcement Coordinator: Jim Grove—grove.jim@epa.gov.

EPA Region X

Enforcement Coordinator: Lauris Davies—davies.lauris@epa.gov.

Dated: March 24, 2003.
Michael M. Stahl,
Director, Office of Compliance.

[FR Doc. 03-7509 Filed 3-27-03; 8:45 am]

BILLING CODE 6560-50-P